DEPARTMENT OF ENERGY

Federal Energy Regulatory Commission

[Docket No. AD05-6-000]

Integrated Licensing Process Outreach 2005; Notice of Regional Training and Effectiveness Workshops and Multi-Stakeholder Effectiveness Technical Conference on the Integrated Licensing Process

April 4, 2005.

Regional Training and Effectiveness Workshops

Commission staff from the Office of Energy Projects will hold regional workshops on the Integrated Licensing Process (ILP) at the locations and times listed below. The purposes of the regional workshops are to: (1) Familiarize licensees; Federal, state, and other government agencies; Indian tribes; nongovernmental organizations; and other interested parties with the Integrated Licensing Process steps and procedures; and (2) seek feedback and share experiences learned from implementing the ILP.

Location | Date/time
Albany, New York, Best Western Sovereign Hotel, 1228 Western Avenue, Albany, NY 12203 | Tuesday, June 7, 2005, 10 a.m. to 4 p.m.
Sacramento, California, Radisson Hotel Sacramento, 500 Leisure Lane, Sacramento, CA 95815 | Wednesday, June 8, 2005, 10 a.m. to 4 p.m.
Columbia, South Carolina, Holiday Inn City Centre at USC, 630 Assembly Street, Columbia, SC 29201 | Thursday, June 9, 2005, 10 a.m. to 4 p.m.
Spokane, Washington, Doubletree Hotel Spokane City Center, 322 North Spokane Falls Blvd., Spokane, WA 99201 | Thursday, June 9, 2005, 10 a.m. to 4 p.m.

The workshops are open to the public and all interested parties are invited to attend and participate. This meeting is posted on the Commission's calendar located at http://www.ferc.gov/EventCalendar/EventsList.aspx.

Muti-Stakeholder ILP Effectiveness Technical Conference

A one day, multi-stakeholder technical conference will be held on Thursday, June 23, 2005, beginning at 11 a.m. (EST) and ending at 3 p.m., in the Commission Meeting Room at the Federal Energy Regulatory Commission, 888 First Street, NE., Washington, DC. The technical conference will focus on gathering information to evaluate the effectiveness of the ILP. The technical conference is open to the public, and all interested persons are invited to attend and participate.

Opportunities for Listening, Participating, and Viewing the June 23, 2005 Multi-Stakeholder ILP Effectiveness Technical Conference

While we encourage interested parties to attend the June 23, 2005, technical conference in person, the Capitol Connection offers the opportunity for remote listening and viewing of the technical conference. It is available for a fee, live over the Internet, by phone or via satellite. Persons interested in receiving the broadcast, or who need information on making arrangements should contact David Reininger or Julia Morelli at the Capitol Connection (703-993-3100) as soon as possible or visit the Capitol Connection Web site at http://www.capitolconnection.org and click on “FERC”.

Anyone wishing to participate via teleconference should e-mail Ken Hogan at kenneth.hogan@ferc.gov by June 2, 2005, to receive the toll free telephone number to join the teleconference.

Anyone interested in participating in the technical conference via video and teleconference from one of the Commission's regional offices should call or e-mail the following staff, by June 2, 2005, to make arrangements. Seating capacity is limited.

Regional office | Staff contact | Telephone No. | E-mail address
Atlanta | Charles Wagner | 770-452-3765 | charles.wagner@ferc.gov.
Chicago | David Simon | 312-596-4448 | david.simon@ferc.gov.
New York | Chuck Goggins | 212-273-5910 | charles.goggins@ferc.gov.
Portland | Mike Henry | 503-552-2762 | mike(OEP)henry@ferc.gov.
San Francisco | John Wiegel | 415-369-3336 | john.wiegel@ferc.gov.

A transcript of the June 23, 2005 discussions will be placed in the public record for Docket No. AD05-6-000. Transcripts can be obtained immediately for a fee by contacting Ace-Federal Reporters, Inc. at (202) 347-3700, or 800-336-6646.

Filing Requirements for Paper and Electronic Filings

Those who wish to file written comments may do so in paper format or electronically. Those filing electronically do not need to make a paper filing.

For paper filings, the original and 8 copies of the comments should be submitted to the Office of the Secretary, Federal Energy Regulatory Commission, 888 First Street, NE., Washington, DC 20426. Paper filings should, at the top of the first page, refer to Docket No. AD05-6-000. The deadline to file comments is July 15, 2005.

Comments may be filed electronically via the Internet in lieu of paper. The Commission strongly encourages electronic filings. Documents filed electronically via the Internet may be prepared in MS Word or Portable Document Format. To file the document, access the Commission's Web site at http://www.ferc.gov, click on “e-Filing” and then follow the instructions on the screen. First-time users will have to establish a user name and password. The Commission will send an automatic acknowledgment to the sender's e-mail address upon receipt of comments. User assistance for electronic filing is available at (202) 502-8258 or by e-mail to efiling@ferc.gov. Comments should not be submitted to the e-mail address.

All comments will be placed in the Commission's public files and will be available for inspection in the Commission's Public Reference Room at 888 First Street, NE., Washington DC 20426, during regular business hours. Additionally, all comments may be viewed on the Commission's Web site at http://www.ferc.gov using the “eLibrary” link. For assistance, call toll free 1-866-208-3676, or for TTY (202) 502-8659, or by e-mail to FERCOnlineSupport@ferc.gov.

Magalie R. Salas,
Secretary.

[FR Doc. E5-1649 Filed 4-8-05; 8:45 am]

BILLING CODE 6717-01-P